DEPARTMENT OF THE TREASURY

Office of Foreign Assets Control

31 CFR Chapter V

Addition of Persons to Appendix A to 31 CFR Chapter V

AGENCY: Office of Foreign Assets Control, Treasury.

ACTION: Amendment of final rule.

SUMMARY: The Treasury Department is amending appendix A to 31 CFR chapter V to add the names of two organizations designated as persons whose property and interests in property have been blocked under the authority of the Secretary of the Treasury pursuant to Section 1(a)(ii) of Executive Order 13219 of June 26, 2001.

EFFECTIVE DATE: April 2, 2002.

FOR FURTHER INFORMATION CONTACT: Office of Foreign Assets Control, Department of the Treasury, Washington, DC 20220, tel.: 202/622-2520.

SUPPLEMENTARY INFORMATION:

Electronic and Facsimile Availability

This document is available as an electronic file on The Federal Bulletin Board the day of publication in the Federal Register. By modem, dial 202/512-1387 and type “/GO FAC,” or call 202/512-1530 for disk or paper copies. This file is available for downloading without charge in ASCII and Adobe Acrobat7 readable (*.PDF) formats. For Internet access, the address for use with the World Wide Web (Home Page), Telnet, or FTP protocol is: fedbbs.access.gpo.gov. This document and additional information concerning the programs of the Office of Foreign Assets Control are available for downloading from the Office's Internet Home Page: http://www.treas.gov/ofac, or in fax form through the Office's 24-hour fax-on-demand service: call 202/622-0077 using a fax machine, fax modem, or (within the United States) a touch-tone telephone.

Background

Appendix A to 31 CFR chapter V lists the names of blocked persons, specially designated nationals, specially designated terrorists, foreign terrorist organizations, and specially designated narcotics traffickers with respect to whom transactions are subject to the various economic sanctions programs administered by the Treasury Department's Office of Foreign Assets Control (“OFAC”).

On June 26, 2001, President Bush issued Executive Order 13219 (66 FR 34777, June 29, 2001), imposing economic sanctions on persons who threaten international stabilization efforts in the Western Balkans region. In an annex to the order, President Bush identified twenty-three individuals and five organizations with respect to which transactions are subject to those sanctions. Those individuals and organizations have already been incorporated into appendix A as blocked persons identified by the term “[Balkans]” (66 FR 57371, November 15, 2001).

On November 28, 2001, the Albanian National Army (ANA) (a.k.a. AKSH) and the National Committee for the Liberation and Protection of Albanian Lands (KKCMTSH), were determined by the Director of OFAC, under the delegated authority of the Secretary of the Treasury, to meet the criteria set forth under Section 1(a)(ii) of Executive Order 13219 for persons with respect to which transactions are subject to the economic sanctions set out under the Order. All property and interests in property, including but not limited to all accounts, that are or come within the United States or that are or come within the possession or control of U.S. persons, including their overseas branches, that are owned or controlled by these organizations are with limited exceptions blocked and may not be transferred, paid, exported, withdrawn, or otherwise dealt in. This blocking includes, but is not limited to, the prohibition of the making or receiving by a United States person of any contribution or provision of funds, goods, or services to or for the benefit of these organizations.

Designations of these organizations blocked pursuant to the Order are effective upon the date of determination by the Director of OFAC. Public notice of blocking is effective upon the date of filing with the Federal Register, or upon prior actual notice.

Because this rule involves a foreign affairs function, Executive Order 12866 and the provisions of the Administrative Procedure Act (5 U.S.C. 553), requiring notice of proposed rulemaking, opportunity for public participation, and delay in effective date, are inapplicable. Because no notice of proposed rulemaking is required for this rule, the Regulatory Flexibility Act (5 U.S.C. 601-612) does not apply.

For the reasons set forth in the preamble, and under the authority of 3 U.S.C. 301, 50 U.S.C. 1601-1651, 50 U.S.C. 1701-1706, and E.O. 13219 of June 26, 2001, the appendices to 31 CFR chapter V are amended as set forth below:

Appendices to Chapter V

Appendix A—[Amended]

1. Appendix A to 31 CFR chapter V is amended by adding the following names of organizations inserted in alphabetical order:

AKSH (see ALBANIAN NATIONAL ARMY) [BALKANS]

ALBANIAN NATIONAL ARMY (a.k.a. ANA; a.k.a. AKSH) [BALKANS]

ANA (see ALBANIAN NATIONAL ARMY) [BALKANS]

KKCMTSH (see NATIONAL COMMITTEE FOR THE LIBERATION AND PROTECTION OF ALBANIAN LANDS) [BALKANS]

NATIONAL COMMITTEE FOR THE LIBERATION AND PROTECTION OF ALBANIAN LANDS (a.k.a. KKCMTSH) [BALKANS]

Dated: January 2, 2002.
R. Richard Newcomb,
Director, Office of Foreign Assets Control.
Approved: January 31, 2002.
Jimmy Gurulé,
Under Secretary (Enforcement), Department of the Treasury.

[FR Doc. 02-8358 Filed 4-2-02; 4:29 pm]

BILLING CODE 4810-25-P